SMALL BUSINESS ADMINISTRATION

[Declaration of Disaster #3299]

State of Ohio; Amendment #1

In accordance with information received from the Federal Emergency Management Agency on October 5, 2000, the above-numbered Declaration is hereby amended to change the deadline for filing applications for physical damages as a result of this disaster from November 25, 2000 to November 27, 2000.

All other information remains the same, i.e., the deadline for filing applications for economic injury is June 26, 2001.

(Catalog of Federal Domestic Assistance Program Nos. 59002 and 59008.)
Dated: October 6, 2000.
Allan I. Hoberman,
Acting Associate Administrator for Disaster Assistance.

[FR Doc. 00-27634 Filed 10-26-00; 8:45 am]

BILLING CODE 8025-01-P